ENVIRONMENTAL PROTECTION AGENCY

[FRL-8695-4]

Gulf of Mexico Program Citizens Advisory Committee Meeting

AGENCY: Environmental Protection Agency (EPA).

ACTION: Notice of meeting.

SUMMARY: Under the Federal Advisory Committee Act (Pub. L. 92-463), EPA gives notice of a meeting of the Gulf of Mexico Program (GMP) Citizens Advisory Committee (CAC).

For information on access or services for individuals with disabilities, please contact Gloria Car, U.S. EPA, at (228) 688-2421 or car.gloria@epa.gov. To request accommodation of a disability, please contact Gloria Car, preferably at least 10 days prior to the meeting, to give EPA as much time as possible to process your request.

DATES: The meeting will be held in conjunction with the Gulf of Mexico Alliance Implementation Workshop on Tuesday, August 19, 2008, from 9 a.m. to 5 p.m., Wednesday, August 20, 2008, from 9 a.m. to 5 p.m., and Thursday, August 21, 2008, from 9 a.m. to 12 p.m.

ADDRESSES: The meeting will be held at the Omni Corpus Christi Hotel-Marina Tower, 707 North Shoreline Boulevard, Corpus Christi, Texas 78401.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Citizens Advisory Committee Overview, which includes the purposes, member responsibilities, bylaws, and a committee priority setting topic; GMP Program Update; CAC Participation in the Governors' Alliance and input on Action Plan II; Succession Planning to vote on a new slate of officers and to select alternates; discussions of meeting frequency, date of next meeting and future meeting topics, participation in Workshop Plenary Sessions and Priority Issue Team Meetings.

The meeting is open to the public.

Dated: July 14, 2008.
Gloria D. Car,
Designated Federal Officer.

[FR Doc. E8-16637 Filed 7-18-08; 8:45 am]

BILLING CODE 6560-50-P